FEDERAL DEPOSIT INSURANCE CORPORATION

[OMB No. 3064-0092; -0113; -0174]

Agency Information Collection Activities: Proposed Collection Renewal; Comment Request

AGENCY: Federal Deposit Insurance Corporation (FDIC).

ACTION: Notice and request for comment.

SUMMARY: The FDIC, as part of its obligations under the Paperwork Reduction Act of 1995 (PRA), invites the general public and other Federal agencies to take this opportunity to comment on the renewal of the existing information collections described below (OMB Control No. 3064-0092; -0113 and -0174).

DATES: Comments must be submitted on or before August 22, 2022.

ADDRESSES: Interested parties are invited to submit written comments to the FDIC by any of the following methods:

• Agency website: https://www.fdic.gov/resources/regulations/federal-register-publications/.

• Email: comments@fdic.gov. Include the name and number of the collection in the subject line of the message.

• Mail: Manny Cabeza (202-898-3767), Regulatory Counsel, MB-3128, Federal Deposit Insurance Corporation, 550 17th Street NW, Washington, DC 20429.

• Hand Delivery: Comments may be hand-delivered to the guard station at the rear of the 17th Street NW building (located on F Street NW), on business days between 7:00 a.m. and 5:00 p.m.

All comments should refer to the relevant OMB control number. A copy of the comments may also be submitted to the OMB desk officer for the FDIC: Office of Information and Regulatory Affairs, Office of Management and Budget, New Executive Office Building, Washington, DC 20503.

FOR FURTHER INFORMATION CONTACT: Manny Cabeza, Regulatory Counsel, 202-898-3767, mcabeza@fdic.gov, MB-3128, Federal Deposit Insurance Corporation, 550 17th Street NW, Washington, DC 20429.

SUPPLEMENTARY INFORMATION:

Proposal to renew the following currently approved collection of information:

1. Title: Community Reinvestment Act.

OMB Number: 3064-0092.

Form Number: None.

Affected Public: Insured state nonmember banks and state savings associations.

Burden Estimate:

Summary of Annual Burden and Internal Cost
[OMB 3064-0092]
Information collection description | Type of burden (obligation to respond) | Estimated number of respondents | Estimated number of responses per respondent | Estimated average time per response (hours) | Total estimated annual burden
Request for designation as a wholesale or limited purpose bank—Banks requesting this designation shall file a request in writing with the FDIC at least 3 months prior to the proposed effective date of the designation | Reporting (Mandatory) | 1 | 1 | 4 | 4
Strategic plan—Applies to banks electing to submit strategic plans to the FDIC for approval | Reporting (Voluntary) | 11 | 1 | 400 | 4,400
Small business/small farm loan data—Large banks shall and Small banks may report annually in machine readable form the aggregate number and amount of certain loans | Reporting (Mandatory) | 274 | 1 | 8 | 2,192
Community development loan data—Large banks shall and Small banks may report annually, in machine readable form, the aggregate number and aggregate amount of community development loans originated or purchased | Reporting (Mandatory) | 274 | 1 | 13 | 3,562
Home mortgage loans—Large banks, if subject to reporting under part 203 (Home Mortgage Disclosure (HMDA)), shall, and Small banks may report the location of each home mortgage loan application, origination, or purchase outside the MSA in which the bank has a home/branch office | Reporting (Mandatory) | 350 | 1 | 253 | 88,550
Data on affiliate lending—Banks that elect to have the FDIC consider loans by an affiliate, for purposes of the lending or community development test or an approved strategic plan, shall collect, maintain and report the data that the bank would have collected, maintained, and reported pursuant to § 345.42(a), (b), and (c) had the loans been originated or purchased by the bank. For home mortgage loans, the bank shall also be prepared to identify the home mortgage loans reported under HMDA | Reporting (Mandatory) | 307 | 1 | 38 | 11,666
Data on lending by a consortium or a third party—Banks that elect to have the FDIC consider community development loans by a consortium or a third party, for purposes of the lending or community development tests or an approved strategic plan, shall report for those loans the data that the bank would have reported under § 345.42(b)(2) had the loans been originated or purchased by the bank | Reporting (Mandatory) | 118 | 1 | 17 | 2,006
Assessment area data -Large banks shall and Small banks may collect and report to the FDIC a list for each assessment area showing the geographies within the area | Reporting (Mandatory) | 372 | 1 | 2 | 744
|  |  |  |  | 113,124
Small business/small farm loan register—Large banks shall and Small banks may collect and maintain certain data in machine-readable form | Recordkeeping (Mandatory) | 372 | 1 | 219 | 81,468
Optional consumer loan data—All banks may collect and maintain in machine readable form certain data for consumer loans originated or purchased by a bank for consideration under the lending test | Recordkeeping (Mandatory) | 10 | 1 | 326 | 3,260
Other loan data -All banks optionally may provide other information concerning their lending performance, including additional loan distribution data | Recordkeeping (Voluntary) | 98 | 1 | 25 | 2,450
|  |  |  |  | 87,178
Content and availability of public file—All banks shall maintain a public file that contains certain required information | Disclosure (Mandatory) | 3,128 | 1 | 10 | 31,280
|  |  |  |  | 31,280
Total Estimated Annual Burden |  |  |  | 231,582

General Description of Collection: The Community Reinvestment Act regulation requires the FDIC to assess the record of banks and thrifts in helping meet the credit needs of their entire communities, including low- and moderate-income neighborhoods, consistent with safe and sound operations; and to take this record into account in evaluating applications for mergers, branches, and certain other corporate activities. There is no change in the method or substance of the collection. The overall decrease in burden hours is a result of decreases in the estimated number of respondents. On June 3, 2022, the Office of the Comptroller of the Currency, the Board of Governors of the Federal Reserve System and the FDIC (the “Agencies”) published a proposal to amend the Agencies' Community Reinvestment Act regulations.¹ The agencies are expecting comments from the industry and other concerned parties which will be considered and addressed when a final rule is issued. The FDIC does not wish to discontinue this information collection while the proposed revisions are considered and a new rule is issued and is, therefore, extending its Community Reinvestment Act information collection as-is, without revision, to preserve its validity.

¹ 87 FR 33884, June 3, 2022

2. Title: External Audits.

OMB Number: 3064-0113.

Form Number: None.

Affected Public: All insured financial institutions with total assets of $500 million or more and other insured financial institutions with total assets of less than $500 million that voluntarily choose to comply.

Burden Estimate:

Summary of Estimated Annual Burdens
[OMB No. 3064-0013]
Information collection description | Type of burden (obligation to respond) | Frequency of response | Number of respondents | Number of responses per respondent | Hours per response | Annual burden (hours)
FDIC-Supervised Institutions with $10 Billion or More in Consolidated Total Assets
Annual Report (Recordkeeping) | Recordkeeping (Mandatory) | Annually | 59 | 1 | 150 | 8,850
Annual Report (Reporting) | Reporting (Mandatory) | Annually | 59 | 1 | 150 | 8,850
Audit Committee Composition (Recordkeeping) | Recordkeeping (Mandatory) | Annually | 59 | 1 | 3 | 177
Audit Committee Composition (Reporting) | Reporting (Mandatory) | Annually | 59 | 1 | 3 | 177
Filing of Other Reports (Recordkeeping) | Recordkeeping (Mandatory) | Annually | 59 | 1 | 0.13 | 7.38
Filing of Other Reports (Reporting) | Reporting (Mandatory) | Annually | 59 | 1 | 0.13 | 7.38
Notice of Change in Accountants (Recordkeeping) | Recordkeeping (Mandatory) | Annually | 15 | 1 | 0.25 | 3.75
Notice of Change in Accountants (Reporting) | Reporting (Mandatory) | Annually | 15 | 1 | 0.25 | 3.75
FDIC-Supervised Institutions with $3 billion to less than $10 billion in Consolidated Total Assets
Annual Report (Recordkeeping) | Recordkeeping (Mandatory) | Annually | 128 | 1 | 125 | 16,000
Annual Report (Reporting) | Reporting (Mandatory) | Annually | 128 | 1 | 125 | 16,000
Audit Committee Composition (Recordkeeping) | Recordkeeping (Mandatory) | Annually | 128 | 1 | 3 | 384
Audit Committee Composition (Reporting) | Reporting (Mandatory) | Annually | 128 | 1 | 3 | 384
Filing of Other Reports (Recordkeeping) | Recordkeeping (Mandatory) | Annually | 128 | 1 | 0.13 | 16
Filing of Other Reports (Reporting) | Reporting (Mandatory) | Annually | 128 | 1 | 0.13 | 16
Notice of Change in Accountants (Recordkeeping) | Recordkeeping (Mandatory) | Annually | 32 | 1 | 0.25 | 8
Notice of Change in Accountants (Reporting) | Reporting (Mandatory) | Annually | 32 | 1 | 0.25 | 8
FDIC-Supervised Institutions with $1 billion to less than $3 billion in Consolidated Total Assets
Annual Report (Recordkeeping) | Recordkeeping (Mandatory) | Annually | 342 | 1 | 100 | 34,200
Annual Report (Reporting) | Reporting (Mandatory) | Annually | 342 | 1 | 100 | 34,200
Audit Committee Composition (Recordkeeping) | Recordkeeping (Mandatory) | Annually | 342 | 1 | 2 | 684
Audit Committee Composition (Reporting) | Reporting (Mandatory) | Annually | 342 | 1 | 2 | 684
Filing of Other Reports (Recordkeeping) | Recordkeeping (Mandatory) | Annually | 342 | 1 | 0.13 | 42.75
Filing of Other Reports (Reporting) | Reporting (Mandatory) | Annually | 342 | 1 | 0.13 | 42.75
Notice of Change in Accountants (Recordkeeping) | Recordkeeping (Mandatory) | Annually | 86 | 1 | 0.25 | 21.5
Notice of Change in Accountants (Reporting) | Reporting (Mandatory) | Annually | 86 | 1 | 0.25 | 21.5
FDIC-Supervised Institutions with $500 million to less than $1 billion in Consolidated Total Assets
Annual Report (Recordkeeping) | Recordkeeping (Mandatory) | Annually | 483 | 1 | 12.5 | 6,037.5
Annual Report (Reporting) | Reporting (Mandatory) | Annually | 483 | 1 | 12.5 | 6,037.5
Audit Committee Composition (Recordkeeping) | Recordkeeping (Mandatory) | Annually | 483 | 1 | 1 | 483
Audit Committee Composition (Reporting) | Reporting (Mandatory) | Annually | 483 | 1 | 1 | 483
Filing of Other Reports (Recordkeeping) | Recordkeeping (Mandatory) | Annually | 483 | 1 | 0.13 | 60.38
Filing of Other Reports (Reporting) | Reporting (Mandatory) | Annually | 483 | 1 | 0.13 | 60.38
Notice of Change in Accountants (Recordkeeping) | Recordkeeping (Mandatory) | Annually | 121 | 1 | 0.25 | 30.25
Notice of Change in Accountants (Reporting) | Reporting (Mandatory) | Annually | 121 | 1 | 0.25 | 30.25
FDIC-Supervised Institutions with less than $500 million in Consolidated Total Assets
Filing of Other Reports (Recordkeeping) | Recordkeeping (Voluntary) | Annually | 2,116 | 1 | 0.25 | 529
Filing of Other Reports (Reporting) | Reporting (Voluntary) | Annually | 2,116 | 2 | 0.25 | 1,058
Total Annual Burden Hours |  |  |  |  |  | 135,598
Source: FDIC.

General Description of Collection: FDIC's regulations at 12 CFR part 363 establish annual independent audit and reporting requirements for financial institutions with total assets of $500 million or more. The requirements include the submission of an annual report on their financial statements, recordkeeping about management deliberations regarding external auditing and reports about changes in auditors. The information collected is used to facilitate early identification of problems in financial management at financial institutions. There is no change in the substance or methodology of this information collection. The overall increase in burden hours is a result of the increase in the estimated number of respondents with consolidated total assets greater than $500 million.

3. Title: Funding and Liquidity Risk Management.

OMB Number: 3064-0174.

Form Number: None.

Affected Public: Businesses or other for-profits.

Burden Estimate:

Information collection description | Type of burden | Estimated number of respondents | Estimated number of responses per respondent | Estimated time per response (hours) | Estimated annual burden (hours)
Paragraph 14—Strategies, policies, procedures, and risk tolerances | Recordkeeping (Voluntary) | 3,128 | 1 | 83.94 | 262,564
Paragraph 20—Liquidity risk management measurement, monitoring, and reporting | Reporting (Voluntary) | 3,128 | 12 | 4 | 150,144
Total Annual Burden |  |  |  |  | 412,708

General Description of Collection: The information collection includes reporting and recordkeeping burdens related to sound risk management principles applicable to insured depository institutions. To enable an institution and its supervisor to evaluate the liquidity risk exposure of an institution's individual business lines and for the institution as a whole, the Interagency Policy Statement on Funding and Liquidity Risk Management (Interagency Statement) summarizes principles of sound liquidity risk management and advocates the establishment of policies and procedures that consider liquidity costs, benefits, and risks in strategic planning. In addition, the Interagency Statement encourages the use of liquidity risk reports that provide detailed and aggregate information on items such as cash flow gaps, cash flow projections, assumptions used in cash flow projections, asset and funding concentrations, funding availability, and early warning or risk indicators. This is intended to enable management to assess an institution's sensitivity to changes in market conditions, the institution's financial performance, and other important risk factors. There is no change in the method or substance of the collection. The overall reduction in burden hours is the result of economic fluctuation. In particular, the number of respondents.

Request for Comment

Comments are invited on: (a) Whether the collection of information is necessary for the proper performance of the FDIC's functions, including whether the information has practical utility; (b) the accuracy of the estimates of the burden of the information collection, including the validity of the methodology and assumptions used; (c) ways to enhance the quality, utility, and clarity of the information to be collected; and (d) ways to minimize the burden of the collection of information on respondents, including through the use of automated collection techniques or other forms of information technology. All comments will become a matter of public record.

Federal Deposit Insurance Corporation.
Dated at Washington, DC, on June 14, 2022.
James P. Sheesley,
Assistant Executive Secretary.

[FR Doc. 2022-13156 Filed 6-17-22; 8:45 am]

BILLING CODE 6714-01-P